DEPARTMENT OF ENERGY

National Nuclear Security Administration

Defense Programs Advisory Committee

AGENCY: Office of Defense Programs, National Nuclear Security Administration, Department of Energy.

ACTION: Notice of closed meeting: Cancellation.

SUMMARY: On February 19, 2020, the Department of Energy published a notice of closed meeting announcing a meeting on April 23, 2020 of the Defense Programs Advisory Committee. This notice announces the cancellation of this meeting.

DATES: The meeting scheduled for April 23, 2020, announced in the February 19, 2020, issue of the Federal Register (FR Doc. 2020-03228, 85 FR 9465), is cancelled.

FOR FURTHER INFORMATION CONTACT: Rachel Barnhill, Office of RDT&E (NA-11), National Nuclear Security Administration, U.S. Department of Energy, 1000 Independence Avenue SW, Washington, DC 20585; Phone: (202) 586-7183.

Signed in Washington, DC on March 26, 2020.
LaTanya Butler,
Deputy Committee Management Officer.

[FR Doc. 2020-06746 Filed 3-31-20; 8:45 am]

BILLING CODE 6450-01-P